COMMITTEE FOR THE IMPLEMENTATION OF TEXTILE AGREEMENTS

Rescheduling of Consideration of Requests for Textile and Apparel Safeguard Action on Imports from China and Solicitations of Public Comments

May 5, 2005.

AGENCY: The Committee for the Implementation of Textile Agreements (the Committee)

ACTION: Rescheduling of consideration by the Committee of requests for textile and apparel safeguard action previously stayed due to a court injunction, and solicitation of public comments with respect to those requests for which the comment period remained open at the time the injunction was imposed.

SUMMARY: The Committee has resumed consideration of twelve requests for safeguard action that were received from certain textile and apparel trade associations in October, November and December, 2004. The Requestors asked the Committee to limit imports from China of twelve textile and apparel products in accordance with the textile and apparel safeguard provision in the Report of the Working Party on the Accession of China to the World Trade Organization (the Accession Agreement). Although the Committee decided to consider these requests, and solicited public comments, the Court of International Trade preliminarily enjoined CITA from taking any further action on the requests on December 30, 2004. The Court of Appeals for the Federal Circuit stayed the injunction on April 27, 2005. The Committee is not soliciting any further public comment with respect to those requests where the public comment period closed before the court issued its injunction. With respect to the remaining requests, the Committee hereby solicits public comments during a period beginning the day following publication of this notice in the Federal Register and encompassing the number of days remaining in the original comment period when the court issued its injunction.

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

BACKGROUND:

The textile and apparel safeguard provision of the Accession Agreement provides for the United States and other members of the World Trade Organization that believe imports of Chinese origin textile and apparel products are, due to market disruption, threatening to impede the orderly development of trade in these products to request consultations with China with a view to easing or avoiding the disruption. Pursuant to this provision, if the United States requests consultations with China, it must, at the time of the request, provide China with a detailed factual statement showing “(1) the existence or threat of market disruption; and (2) the role of products of Chinese origin in that disruption.” Beginning on the date that it receives such a request, China must restrict its shipments to the United States to a level no greater than 7.5 percent (6 percent for wool product categories) above the amount entered during the first 12 months of the most recent 14 months preceding the month in which the request for consultations is made. If exports from China exceed that amount, the United States may enforce the restriction.

The Committee has published procedures (the Procedures) it follows in considering requests for Accession Agreement textile and apparel safeguard actions (68 FR 27787, May 21, 2003; 68 FR 49440, August 18, 2003), including the information that must be included in such requests in order for the Committee to consider them.

In October through December of 2004, the Requestors asked the Committee to take safeguard action on imports from China of 12 the following products: 1) cotton trousers, category 347/348; (2) cotton knit shirts and blouses, category 338/339; (3) men's and boys' cotton and man-made fiber shirts, not knit, category 340/640; (4) man-made fiber knit shirts and blouses, category 638/639; (5) man-made fiber trousers, category 647/648; (6) cotton and man-made fiber underwear, category 352/652; (7) combed cotton yarn, category 301; (8) other synthetic filament fabric, category 620; (9) men's and boys' wool trousers, category 447; (10) knit fabric, category 222; (11) dressing gowns and robes, category 350/650; and (12) brassieres and other body supporting garments, category 349/649.

The Committee determined that each of these requests provided the information necessary for the Committee to consider the request and solicited public comments on each. See 69 FR 64034 (Nov. 3, 2004); 69 FR 64911 (Nov. 9, 2004); 69 FR 64912 (Nov. 9, 2004); 69 FR 64913 (Nov. 9, 2004); 69 FR 64914 (Nov. 9, 2004); 69 FR 64915 (Nov. 9, 2004); 69 FR 68133 (Nov. 23, 2004); 69 FR 70661 (Dec. 7, 2004); 69 FR 71781 (Dec. 10, 2004); 69 FR 75516 (Dec. 17, 2004); 69 FR 77232 (Dec. 27, 2004); 69 FR 77998 (Dec. 29, 2004).

These requests are available at http://otexa.ita.doc.gov.

On December 30, 2004, the Court of International Trade preliminarily enjoined the CITA agencies from considering or taking any further action on these requests and any other requests “that are based on the threat of market disruption”. U.S. Association of Importers of Textiles and Apparel v. United States, Slip Op.04-162. On April 27, 2005, the Court of Appeals for the Federal Circuit granted the U.S. government's motion for a stay of that injunction, pending appeal. U.S. Association of Importers of Textiles and Apparel v. United States, Ct. No. 05-1209. Thus CITA may now resume consideration of these cases.

Public Comments

The public comment period closed prior to December 30, 2004 with respect to the following seven requests: (1) cotton trousers, category 347/348; (2) cotton knit shirts and blouses, category 338/339; (3) men's and boys' cotton and man-made fiber shirts, not knit, category 340/640; (4) man-made fiber knit shirts and blouses, category 638/639; (5) man-made fiber trousers, category 647/648; (6) cotton and man-made fiber underwear, category 352/652; and (7) combed cotton yarn, category 301. The Committee is not soliciting additional public comments with respect to those requests.

With respect to the remaining five requests filed in the last quarter of 2004, the public comment period had not yet closed as of December 30, 2004. The number of calendar days remaining in the public comment period beginning with and including December 30, 2004 is indicated in parentheses for each product group: (1) other synthetic filament fabric, category 620 (8 days); (2) men's and boys' wool trousers, category 447 (12 days); (3) knit fabric, category 222 (20 days); (4) dressing gowns and robes, category 350/650 (28 days); and (5) brassieres and other body supporting garments, category 349/649 (30 days).

For some of these cases, public comments continued to be delivered to the Committee during the original comment period. Although the Committee was barred by the injunction from considering such comments while the injunction was in effect, those comments were retained, and will now be considered. They need not be re-submitted.

Interested persons are invited to submit ten copies of comments in connection with these five requests to the Chairman. Comments must be received no later than the last day of the number of days remaining in the original comment period at the time of the imposition of the injunction. Thus, for (1) other synthetic filament fabric, category 620, comments must be received no later than May 17, 2005; for (2) men's and boys' wool trousers, category 447, comments must be received no later than May 23, 2005; for (3) knit fabric, category 222, comments must be received no later than May 31, 2005; for (4) dressing gowns and robes, category 350/650, comments must be received no later than June 6, 2005; and for (5) brassieres and other body supporting garments, category 349/649, comments must be received no later than June 8, 2005.

Comments should be directed to the Committee for the Implementation of Textile Agreements, Room 3001A, U.S. Department of Commerce, 14th and Constitution Avenue N.W., Washington, DC 20230.

The Committee will protect any business confidential information that is marked “business confidential” from disclosure to the full extent permitted by law. To the extent that business confidential information is provided, two copies of a non-confidential version must also be provided in which business confidential information is summarized or, if necessary, deleted. Comments received, with the exception of information marked “business confidential”, will be available for inspection between Monday - Friday, 8:30 a.m and 5:30 p.m in the Trade Reference and Assistance Center Help Desk, Suite 800M, USA Trade Information Center, Ronald Reagan Building, 1300 Pennsylvania Avenue, NW, Washington, DC, (202) 482-3433.

Committee Determination Whether to Request Consultations

With respect to the requests for which the public comment period closed prior to the imposition of the injunction, the Committee will make a determination within 60 calendar days of the publication of this notice in the Federal Register as to whether the United States will request consultations with China. If the Committee is unable to make a determination within 60 calendar days, it will cause to be published a notice in the Federal Register, including the date by which it will make a determination. If the Committee makes a negative determination, it will cause this determination and the reasons therefore to be published in the Federal Register. If the Committee makes an affirmative determination that imports of these textile and apparel products threaten to disrupt the U.S. market, the United States will request consultations with China with a view to easing or avoiding the disruption.

With respect to the requests for which the public comment period remained open at the time of the imposition of the injunction, the Committee will make a determination within 60 calendar days of the close of the public comment period, as described above in the “Affected Product Groups” section, as to whether the United States will request consultations with China. If the Committee is unable to make a determination within 60 calendar days, it will cause to be published a notice in the Federal Register, including the date by which it will make a determination. If the Committee makes a negative determination, it will cause this determination and the reasons therefore to be published in the Federal Register. If the Committee makes an affirmative determination that imports of these textile and apparel products threaten to disrupt the U.S. market, the United States will request consultations with China with a view to easing or avoiding the disruption.

D. Michael Hutchinson,
Acting Chairman, Committee for the Implementation of Textile Agreements.

[FR Doc. 05-9320 Filed 5-5-05; 2:51 am]

BILLING CODE 3510-DS-S